DEPARTMENT OF THE INTERIOR

Bureau of Indian Affairs

[189A2100DD/AAKC001030/A0A501010.999900 253G]

Final Environmental Impact Statement for the Proposed Campo Wind Energy Project, San Diego, California

AGENCY: Bureau of Indian Affairs, Interior.

ACTION: Notice of availability.

SUMMARY: In accordance with the National Environmental Policy Act (NEPA) of 1969, as amended, this notice advises the public that the Bureau of Indian Affairs (BIA) as lead agency has prepared a Final Environmental Impact Statement (FEIS) in connection with the approval of a lease between the Campo Band of Diegueno Mission Indians (Tribe) and Terra-Gen Development Company, LLC (Terra-Gen), to construct and operate a wind energy generation project on the Campo Indian Reservation (Reservation). This Notice of Availability (NOA) also announces that the FEIS is now publicly available for 30 days.

DATES: The waiting period on the FEIS ends on March 11, 2020. The FEIS is available online at: www.CampoWind.com.

ADDRESSES: Commenters may mail or hand-deliver written comments to the Bureau of Indian Affairs, Pacific Regional Office, 2800 Cottage Way, Sacramento, California 95825. See the SUPPLEMENTARY INFORMATION section of this notice for further directions on submitting comments. The FEIS is available for review online at www.CampoWind.com and at:

• County of San Diego Public Library—Campo, 31356 Highway 94, Campo, CA 91906.

• County of San Diego Public Library—Pine Valley, 28804 Old Highway 80, Pine Valley, CA 91962.

• BIA Pacific Regional Office, 2800 Cottage Way, Sacramento, California 95825.

FOR FURTHER INFORMATION CONTACT: Dan (Harold) Hall, Regional Archeologist BIA Pacific Region Branch, by telephone at (916) 978-6041 or by email at harold.hall@bia.gov.

SUPPLEMENTARY INFORMATION:

I. Background on the Process

II. Background on the Project

III. Alternatives

IV. Environmental Impact Analysis

V. Public Comment Procedures

VI. Authority

I. Background on the Process

Public review of the DEIS is part of the administrative process for the evaluation of the authorization of the Tribe's lease of trust land in eastern San Diego County, California. Terra-Gen proposes to construct and operate a wind energy generation facility in the lease area. A Notice of Intent to prepare an EIS was published in the Federal Register on November 11, 2018 (83 FR 58784) and posted on the www.CampoWind.com website. A public notice announcing the proposed action and the scoping meeting was published in the San Diego Business Journal on November 26, 2018 and the San Diego Union-Tribune on November 21, 2018. The BIA held a public scoping meeting for the proposed project on December 6, 2018 at the Campo Indian Reservation Tribal Hall, 36190 Church Road, Campo, California. A Notice of Availability (NOA) that the Draft EIS had been prepared was published in the Federal Register on May 24, 2019. The 45-day public review period on the Draft EIS began on May 24, 2019 and ended on July 8, 2019. A public meeting was noticed and held on June 19, 2019 at 6 p.m. at the Campo Indian Reservation Tribal Hall, 36190 Church Road, Campo, California.

II. Background on the Project

The proposed action consists of BIA approval of a lease between the Tribe and Terra-Gen, to construct and operate a renewable energy generation project for 25 years on the Reservation, with the possibility of a 13-year extension for a total of 38 years. The lease would allow Terra-Gen to develop and operate a wind energy generation facility in the lease area. The project consists of the following components: (A) Up to 60 wind turbines of approximately 4.2 megawatts (MW) capacity and approximately 586 feet in total height; (B) access roads, including approximately 15 miles of new roads and approximately 15 miles of improved existing roads; (C) electrical collection and communication system; (D) project collector substation; (E) operations and maintenance facility; (F) meteorological towers; (G) water collection and septic system; (H) temporary concrete batch plant; (I) temporary staging areas; (J) on-reservation portion of the generation tie line (gen-tie line); and (K) boulder brush facilities (components on private lands including a portion of the gen-tie line, a high-voltage substation, a switchyard, and access roads).

III. Alternatives

The following alternatives are considered in the EIS:

(1) Alternative 1, 252 MW—would include 60 turbines producing approximately 4.2 MW each, for a total production of approximately 252 MW. Up to 76 possible turbine sites have been evaluated, of which only 60 could be constructed under the lease. Total turbine height of approximately 586 feet.

(2) Alternative 2, 202 MW—would include a reduction in the Project's footprint, number of turbines, and generating capacity of approximately 20%, with 48 turbines that would produce approximately 4.2 MW each, for a total production of approximately 202 MW.

(3) Alternative 3, No Action Alternative—would entail the BIA not approving the proposed lease agreement between the Tribe and Terra-Gen for the construction of a wind energy project on the Reservation.

A wide range of additional alternatives were considered by the BIA but not carried forward for detailed analysis in the EIS. The following alternatives were not analyzed in the EIS because they either did not meet the purpose and need of the project or were not considered technically feasible or economically feasible or cost-effective: Mixed renewable generation (wind and solar), minimal build-out, off-reservation location, reduced capacity turbines, distributed generation.

IV. Environmental Impact Analysis

The EIS analyzes the potential environmental impacts to 13 different resource categories, including:

• Land Resources

• Water Resources

• Air Quality

• Biological Resources

• GHG Emissions and Climate Change

• Cultural Resources

• Socioeconomic Conditions

• Resource Use Patterns

• Traffic and Transportation

• Noise

• Visual Resources

• Public Health and Safety

• Cumulative Scenario and Impacts.

V. Public Comment Procedures

BIA is noticing the 30-day waiting period for the Final EIS, in accordance with the Council on Environmental Quality's regulations for implementing NEPA and the DOI's NEPA regulations. Comments should include the commenting party's name, return address, and the caption: “FEIS Comments, Campo Wind Energy Project,” on the first page of written comments. See the DATES section of this notice for the deadline and ADDRESSES section of this notice for where to send your comments.

Public comment availability: Comments, including names and addresses of respondents, will be available for public review at the BIA address shown in the ADDRESSES section, during regular business hours, 8 a.m. to 4:30 p.m., Monday through Friday, except holidays. Commenting parties should be aware, before including their address, phone number, email address, or other personal identifying information in a comment, that comments may be made publicly available at any time. While a commenting party may request in its comment that identifying information be withheld from public review, the BIA cannot guarantee that this will occur.

VI. Authority

This notice is published pursuant to Sec. 1506.10(a)(2) of the Council of Environmental Quality Regulations (40 CFR parts 1500 through 1508) and Sec. 46.305 of the Department of the Interior Regulations (43 CFR part 46), implementing the procedural requirements of the NEPA of 1969, as amended (42 U.S.C 4371, et seq.), and is in the exercise of authority delegated to the Assistant Secretary-Indian Affairs by 209 DM 8.

Dated: February 4, 2020.
Tara Sweeney,
Assistant Secretary—Indian Affairs.

[FR Doc. 2020-02669 Filed 2-7-20; 8:45 am]

BILLING CODE 4337-15-P